DEPARTMENT OF THE INTERIOR

National Park Service

[NPS-WASO-NAGPRA-10797: 2200-1100-665]

Notice of Inventory Completion: Department of the Interior, Bureau of Indian Affairs, Washington, DC, and Logan Museum of Anthropology, Beloit College, Beloit, WI

AGENCY: National Park Service, Interior.

ACTION: Notice.

SUMMARY: The U.S. Department of the Interior, Bureau of Indian Affairs, and Logan Museum of Anthropology, Beloit College, have completed an inventory of human remains, in consultation with the appropriate Indian tribe, and have determined that there is a cultural affiliation between the human remains and a present-day Indian tribe. Representatives of any Indian tribe that believes itself to be culturally affiliated with the human remains may contact the U.S. Department of the Interior, Bureau of Indian Affairs. Repatriation of the human remains to the Indian tribe stated below may occur if no additional claimants come forward.

DATES: Representatives of any Indian tribe that believes it has a cultural affiliation with the human remains should contact the U.S. Department of the Interior, Bureau of Indian Affairs at the address below by September 4, 2012.

ADDRESSES: Anna Pardo, Museum Program Manager/NAGPRA Coordinator, U.S. Department of the Interior, Indian Affairs, 12220 Sunrise Valley Drive, room 6084, Reston, VA 20191, telephone (703) 390-6343.

SUPPLEMENTARY INFORMATION: Notice is here given in accordance with the Native American Graves Protection and Repatriation Act (NAGPRA), 25 U.S.C. 3003, of the completion of an inventory of human remains under the control of the U.S. Department of the Interior, Bureau of Indian Affairs, Washington, DC, and in the physical custody of the Logan Museum of Anthropology, Beloit College, Beloit, WI. The human remains were removed from an unknown location on the Fort Berthold Reservation, McLean County, ND.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Logan Museum of Anthropology professional staff in consultation with representatives of the Three Affiliated Tribes of the Fort Berthold Reservation, North Dakota.

History and Description of the Remains

Sometime in 1925, human remains representing, at minimum, one individual were removed from a site on the Fort Berthold Reservation in McLean County, ND, by Eric C. Jacobsen. No details are available on the precise site location or collecting methods. It is unknown whether the remains came to the Logan Museum through Alfred Bowers, who conducted archaeological work in association with the museum in the 1920s and 1930s, or if they arrived directly from Jacobsen or through some other party. The remains are labeled as “Arikara Indian. Reservation Grave. Jacobsen Collection.” Cranial morphology is consistent with Arikara patterns. No known individuals were identified. No associated funerary objects are present.

At an unknown date prior to 1979, human remains representing, at minimum, one individual were removed from the Fort Berthold Reservation in McLean County, ND, by an unknown collector. No details are available on the precise site location or collecting methods. The remains are labeled “Mandan Indian (Modern), Ft. Berthold Reservation.” Cranial morphology is consistent with Mandan patterns. The pattern of dental wear suggests the remains date to the 19th century, and the weathering and light color of the remains suggests they were collected from an exposed context. No known individuals were identified. No associated funerary objects are present.

The human remains are determined to be Native American on the basis of physical characteristics and provenience within the Fort Berthold Reservation. Cultural affiliation is based on provenience, catalog records, and morphology. Both the Arikaras (Sahnish) and Mandans are part of the Three Affiliated Tribes of the Fort Berthold Reservation, North Dakota.

Determinations Made by the U.S. Department of the Interior, Bureau of Indian Affairs, Washington, DC, and the Logan Museum of Anthropology, Beloit College, Beloit, WI

Officials of the Bureau of Indian Affairs and the Logan Museum of Anthropology have determined that:

• Pursuant to 25 U.S.C. 3001(9), the human remains described in this notice represent the physical remains of two individuals of Native American ancestry.

• Pursuant to 25 U.S.C. 3001(2), there is a relationship of shared group identity that can be reasonably traced between the Native American human remains and the Three Affiliated Tribes of the Fort Berthold Reservation, North Dakota.

Additional Requestors and Disposition

Representatives of any Indian tribe that believes itself to be culturally affiliated with the human remains should contact Anna Pardo, Museum Program Manager/NAGPRA Coordinator, U.S. Department of the Interior, Indian Affairs, 12220 Sunrise Valley Drive, room 6084, Reston, VA 20191, telephone (703) 390-6343, before September 4, 2012. Repatriation of the human remains to the Three Affiliated Tribes of the Fort Berthold Reservation, North Dakota, may proceed after that date if no additional claimants come forward.

The Bureau of Indian Affairs is responsible for notifying the Three Affiliated Tribes of the Fort Berthold Reservation, North Dakota, that this notice has been published.

Dated: July 9, 2012.
David Tarler,
Acting Manager, National NAGPRA Program.

[FR Doc. 2012-18956 Filed 8-1-12; 8:45 am]

BILLING CODE 4312-50-P